ENVIRONMENTAL PROTECTION AGENCY

[FRL-9637-6]

Inventory of U.S. Greenhouse Gas Emissions and Sinks: 1990-2010; Notice of Availability and Request for Comments

AGENCY: Environmental Protection Agency (EPA).

ACTION: Notice of document availability and request for comments.

SUMMARY: The Draft Inventory of U.S. Greenhouse Gas Emissions and Sinks: 1990-2010 is available for public review. Annual U.S. emissions for the period of time from 1990 through 2010 are summarized and presented by source category and sector. The inventory contains estimates of carbon dioxide (CO2), methane (CH4), nitrous oxide (N2O), hydrofluorocarbons (HFC), perfluorocarbons (PFC), and sulfur hexafluoride (SF6) emissions. The inventory also includes estimates of carbon fluxes in U.S. agricultural and forest lands. The technical approach used in this report to estimate emissions and sinks for greenhouse gases is consistent with the methodologies recommended by the Intergovernmental Panel on Climate Change (IPCC), and reported in a format consistent with the United Nations Framework Convention on Climate Change (UNFCCC) reporting guidelines. The Inventory of U.S. Greenhouse Gas Emissions and Sinks: 1990-2010 is the latest in a series of annual U.S. submissions to the Secretariat of the UNFCCC.

DATES: To ensure your comments are considered for the final version of the document, please submit your comments on or before March 28, 2012. However, comments received after that date will still be welcomed and be considered for the next edition of this report.

ADDRESSES: Comments should be submitted to Mr. Leif Hockstad at: Environmental Protection Agency, Climate Change Division (6207J), 1200 Pennsylvania Ave. NW., Washington, DC 20460, Fax: (202) 343-2359. You are welcome and encouraged to send an email with your comments to hockstad.leif@epa.gov.

FOR FURTHER INFORMATION CONTACT: Mr. Leif Hockstad, Environmental Protection Agency, Office of Air and Radiation, Office of Atmospheric Programs, Climate Change Division, (202) 343-9432, hockstad.leif@epa.gov.

SUPPLEMENTARY INFORMATION: The draft report can be obtained by visiting the U.S. EPA's Climate Change Site at: http://www.epa.gov/climatechange/emissions/usinventoryreport.html.

Dated: February 16, 2012.
Gina McCarthy,
Assistant Administrator, Office of Air and Radiation.

[FR Doc. 2012-4477 Filed 2-24-12; 8:45 am]

BILLING CODE 6560-50-P